DEPARTMENT OF HOUSING AND URBAN DEVELOPMENT

[Docket No. FR-5415-N-15]

Notice of Availability: Notice of Funding Availability (NOFA) for Fiscal Year (FY) 2010 Family Unification Program (FUP)

AGENCY: Office of the Chief of the Human Capital Officer, HUD.

ACTION: Notice.

SUMMARY: HUD announces the availability on its website of the applicant information, submission deadlines, funding criteria, and other requirements for the FY2010 Family Unification Program. This Notice of Funding Availability (NOFA) announces the availability of approximately $15 million for new incremental voucher assistance to provide adequate housing as a means to promote family unification through the FUP. In accordance with the Consolidated Appropriations Act 2010, this funding must be provided to Public Housing Agencies with demonstrated experience and resources for supportive services, as evidenced by the executed Memorandum of Understanding (MOU) with the Public Child Welfare Agency (PCWA).

The notice providing information regarding the application process, funding criteria and eligibility requirements can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for the Family Unification Program is 14.880. Applications must be submitted electronically through Grants.gov.

FOR FURTHER INFORMATION CONTACT: Questions regarding specific program requirements should be directed to Amaris Rodriguez at (202) 708-0477 or by e-mail at amaris.rodriguez@hud.gov. Program staff will not be available to provide guidance on how to prepare the application. Questions regarding the 2010 General Section should be directed to the Office of Grants Management and Oversight at (202) 708-0667 or the NOFA Information Center at 800-HUD-8929 (toll free). Persons with hearing or speech impairments may access these numbers via TTY by calling the Federal Information Relay Service at 800-877-8339.

Dated: October 8, 2010.
Barbara S. Dorf,
Director, Office of Departmental Grants Management and Oversight, Office of the Chief of the Human Capital Officer.

[FR Doc. 2010-25907 Filed 10-13-10; 8:45 am]

BILLING CODE 4210-67-P